DEPARTMENT OF TRANSPORTATION

Federal Aviation Administration

[Docket No. FAA-2021-0068]

Agency Information Collection Activities: Requests for Comments; Clearance of Renewed Approval of Information Collection: FAA Entry Point Filing Form—International Registry

AGENCY: Federal Aviation Administration (FAA), DOT.

ACTION: Notice and request for comments.

SUMMARY: In accordance with the Paperwork Reduction Act of 1995, FAA invites public comments about our intention to request the Office of Management and Budget (OMB) approval to renew an information collection. The information to be collected will be used to obtain a unique authorization code for transmitting information to the International Registry in Dublin, Ireland.

DATES: Written comments should be submitted by March 29, 2021.

ADDRESSES: Please send comments:

By Electronic Docket: www.regulations.gov (Enter docket number into search field).

By mail: Bonnie Lefko, Federal Aviation Administration, Civil Aviation Registry, Aircraft Registration Branch, AFB-711, P.O. Box 25504, Oklahoma City, OK 73125-0504.

By fax: 405-954-3548.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0697.

Title: FAA Entry Point Filing Form—International Registry.

Form Numbers: AC Form 8050-135.

Type of Review: Renewal of information collection.

Background: The information collected is necessary to obtain an authorization code for transmission of information to the International Registry. The Convention on International Interest in Mobile Equipment, as modified by the Protocol to the Convention on International Interests in Mobile Equipment on Matters Specific to Aircraft Equipment (Cape Town Treaty), provides for the creation and sustainment of the International Registry. The International Registry is an electronic registry system that works in tandem with the current system operated by the FAA Civil Aviation Registry (Registry) for the United States.

Congress has designated the Registry as the exclusive United States Entry Point for transmissions to the International Registry. To transmit certain types of interests or prospective interests to the International Registry, interested parties must file a completed FAA Entry Point Filing Form—International Registry, AC Form 8050-135, with the Registry. Upon receipt of the completed form, the Registry issues a unique authorization code. The submission of the information in question is not an FAA requirement for aircraft registration. Its sole purpose is to create authorization for filing with the International Registry.

Respondents: Anyone wanting to file an interest on the International Registry. The FAA estimates up to 15,000 filed annually.

Frequency: As desired by parties with an interest in mobile equipment.

Estimated Average Burden per Response: 30 minutes.

Estimated Total Annual Burden: Based on FY2020 data of 14,360 filings, the estimated annual burden is 7,180 hours.

Issued in Oklahoma City, OK on January 25, 2021.
Bonnie Lefko,
Program Analyst, FAA Civil Aviation Registry, Aircraft Registration Branch, AFB-711.

[FR Doc. 2021-01857 Filed 1-27-21; 8:45 am]

BILLING CODE 4910-13-P